DEPARTMENT OF THE TREASURY

Privacy Act of 1974; System of Records

AGENCY: Treasury.

ACTION: Notice of alterations to a Privacy Act System of Records.

SUMMARY: The Treasury Department gives notice of the proposed alterations to the system of records entitled, “Treasury .001—Treasury Personnel and Payroll System,” which is subject to the Privacy Act of 1974, as amended, 5 U.S.C. 552a.

DATES: Comments must be received by October 30, 2006. The proposed altered system of records will become effective November 7, 2006 unless comments are received that would result in a contrary determination.

ADDRESSES: Comments should be sent to: Director, HR Connect Program Office, 1750 Pennsylvania Ave., 13th fl., NW., Washington, DC 20220.

FOR FURTHER INFORMATION CONTACT: Lynn Eddy, HR Connect Program Office, (202) 622-1520.

SUPPLEMENTARY INFORMATION: The HR Connect Program Office (HRCPO) whose mission is to improve human resources systems and service delivery to Treasury and other Federal Government agencies and organizations through the application of innovative enterprise-wide technology. The Departmental and bureau partnership formed to implement the system will aid Treasury and other Federal Government agencies and organizations to meet their primary business needs for an integrated human resources system (HRS) that will increase the timeliness and accuracy of personnel data, assist in streamlining personnel processes and enable users to directly and easily access and enter HR information in a secure environment.

The HR Connect system has been approved by the Office of Personnel Management to provide human resource services to a limited number of non-Treasury Federal departments and agencies. In support of the e-gov initiative for human resources and the President's Management Agenda (PMA) the HR Connect Program has recently submitted it's proposal to the Office of Personnel Management to become an official HR line of business for all Federal departments and agencies whose payrolls are processed by the Department of Agriculture National Finance Center (NFC). Under this new Federal strategy there will be only four Federal providers that will service the Federal workforce.

To meet the requirements of Homeland Security Presidential Directive 12 (HSPD-12), the “Categories of records” is being revised. The revision is to clarify that “employee identification data” includes evidence that an applicant or new employee presented acceptable documentation to establish their identity, as shown on the Form I-9.

The notice is, also revising information under “Categories of individuals covered by the system”, “Categories of records in the system”, “Authority for maintenance of the system”, “Purposes”, “Retrievability”, “System Manager(s)”, and “Notification Procedure.” The notice also adds a new routine use permitting the disclosure of records for the purpose of providing human resource services to other Federal agencies under cross servicing agreements.

The notice for the system of records was last published in its entirety on August 1, 2005, at 70 FR 44178.

The altered system of records report, as required by 5 U.S.C. 552a(r) of the Privacy Act, has been submitted to the Committee on Government Reform and Oversight of the House of Representatives, the Committee on Homeland Security and Governmental Affairs of the Senate and the Office of Management and Budget, pursuant to Appendix I to OMB Circular A-130, “Federal Agency Responsibilities for Maintaining Records About Individuals,” dated November 30, 2000.

The proposed alterations to “Treasury .001—Treasury Personnel and Payroll System—Treasury” are set forth below.

Dated: September 21, 2006.
Sandra L. Pack,
Assistant Secretary for Management and Chief Financial Officer.

Treasury .001

System name:

Treasury Personnel and Payroll System—Treasury.

* * * * *

Categories of individuals covered by the system:

Description of the change: Remove the current entry and in its place add the following:

“(1) Employees, former employees, and applicants for employment, in all Treasury Department bureaus and offices, except the Office of Thrift Supervision. (2) Employees, former employees, and applicants for employment of Federal agencies for which the Treasury Department is a cross-services provider.”

Categories of records in the system:

* * * * *

Description of the change: Categories (1) and (2) are revised to read as follows:

“(1) Employee identification and status data such as name, records that establish an individual's identity, social security number, date of birth, sex, race and national origin designator, awards received, suggestions, work schedule, type of appointment, education, training courses attended, veterans preference, and military service; (2) employment data such as service computation for leave, date probationary period began, date of performance rating, performance contract, and date of within-grade increases;” * * *

Authority for maintenance of the system:

Description of the change: Remove the current entry and in its place add:

“5 U.S.C. 301; 31 U.S.C. 321; Homeland Security Presidential Directive 12 (HSPD-12), and Treasury Directive 80-05, Records and Information Management Program.”

Purpose(s):

* * * * *

Description of the change: Replace the period “(.)” at the end of the paragraph with a semicolon “(;)” and add the following:

“and (4) perform personnel and payroll functions for Federal agencies for which Treasury is a cross-services provider and to conduct activities necessary to carry-out the official HR line of business for all Federal departments and agencies that are serviced by the a National Finance Center (NFC).”

Routine uses of records maintained in the system, including categories of users and the purposes of such uses:

* * * * *

Description of the change: Replace the period “(.)” at the end of the routine use (17) with a semicolon “(;)” and add the following routine use at the end thereof:

“(18) Disclose information to other Federal agencies with whom the Department has entered into a cross servicing agreement that provides for the delivery of automated human resources operations. These operations may include maintaining current and historical payroll and personnel records, and providing reports, statistical surveys, rosters, documentation, and studies as required by the other federal agency to support its personnel administration activities.”

* * * * *

Retrievability:

Description of the change: The first sentence is revised by adding “/agency” following the word “bureau” to read as follows:

• I11“Records are retrieved generally by social security number, position identification number within a bureau/agency and sub-organizational element, employee identification or employee name.” * * *

* * * * *

System Manager(s) and Address:

Description of the changes:

a. The first sentence under this heading is revised to read:

“Department of the Treasury: Official prescribing policies and practices: Chief Human Capitol Officer/Deputy Assistant Secretary for Human Resources, 1750 Pennsylvania Avenue, NW., Washington, DC 20220.”

b. The text under this heading is further revised by adding a paragraph after the list of systems managers for the Treasury components to read as follows:

“A list of the Federal agencies for which Treasury is a cross-services provider and their respective system managers may be obtained by contacting the Chief Human Capitol Officer/Deputy Assistant Secretary for Human Resources, at the address shown above.”

Notification Procedure:

Description of the change: Remove the current entry and in its place add the following:

“(1) Employees, former employees or applicants of the Department of the Treasury seeking notification and access to any record contained in the system of records, or seeking to contest its content, may inquire in accordance with instructions pertaining to individual Treasury components appearing at 31 CFR part 1, subpart C, appendices A-L.

(2) Employees of other Federal agencies for which Treasury is a cross-services provider may request notification, access and amendment of their records through the personnel office at their home agency. (See “System manager” above.) ”

* * * * *

[FR Doc. E6-15971 Filed 9-27-06; 8:45 am]

BILLING CODE 4811-37-P